ENVIRONMENTAL PROTECTION AGENCY

40 CFR Part 52

[R05-OAR-2004-WI-0001; FRL-7858-9]

Approval and Promulgation of Air Quality Implementation Plans; Wisconsin; Withdrawal of Direct Final Rule

AGENCY: Environmental Protection Agency (EPA).

ACTION: Withdrawal of direct final rule.

SUMMARY: Due to the receipt of an adverse comment, the EPA is withdrawing the November 10, 2004 (69 FR 65069), direct final rule approving revisions to Wisconsin's State Implementation Plan regarding the control of nitrogen oxide emissions. In the direct final rule, EPA stated that if adverse comments were submitted by December 10, 2004, the rule would be withdrawn and not take effect. On December 10, 2004, EPA received a comment. EPA believes this comment is adverse and, therefore, EPA is withdrawing the direct final rule. EPA will address the comment in a subsequent final action based upon the proposed action also published on November 10, 2004 (69 FR 65117). EPA will not institute a second comment period on this action.

DATES: The direct final rule published at 69 FR 65069 on November 10, 2004 is withdrawn as of January 10, 2005.

FOR FURTHER INFORMATION CONTACT: Randolph Cano, Environmental Protection Specialist, Criteria Pollutant Section, Air Programs Branch (AR-18J), U.S. Environmental Protection Agency, Region 5, 77 West Jackson Boulevard, Chicago, Illinois 60604, Telephone: (312) 886-6036. E-Mail Address: cano.randolph@epa.gov.

List of Subjects in 40 CFR Part 52

Environmental protection, Air pollution control, Incorporation by reference, Intergovernmental relations, Nitrogen oxide, Reporting and recordkeeping requirements.

Authority: 42 U.S.C. 7401 et seq.

Dated: December 30, 2004.
Norman Niedergang,
Acting Regional Administrator, Region 5.

Accordingly, the amendment to 40 CFR 52.2570 published in the Federal Register on November 10, 2004 (69 FR 65069) on pages 65069-65073 are withdrawn as of January 10, 2005.

[FR Doc. 05-427 Filed 1-7-05; 8:45 am]

BILLING CODE 6560-50-P